DEPARTMENT OF DEFENSE

Department of the Army

[Docket ID USA-2015-0018]

Proposed Collection; Comment Request

AGENCY: U.S. Army Corps of Engineers, Department of Army, DoD.

ACTION: Notice.

SUMMARY: In compliance with the Paperwork Reduction Act of 1995, the Office of the Assistant Secretary of Defense for Civil Works announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 27, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the US Army Corps of Engineers, Institute for Water Resources, Casey Building, 8801 Telegraph Road, Alexandria, VA 22315, ATTN Meredith Bridgers or call 703-428-8458.

SUPPLEMENTARY INFORMATION: Title; Associated Form; and OMB Number: Recreation Use Survey; Generic Collection OMB Control Number 0710-XXXX.

Needs and Uses: The information collection requirement is necessary to produce recreation visitation and local expenditure estimates at US Army Corps of Engineers Water Resource Projects.

Affected Public: Public visitors to US Army Corps of Engineers managed recreation areas.

Annual Burden Hours: 1,768 hours.

Number of Respondents: 19,050.

Responses per Respondent: 1.11.

Average Burden per Response: 5.5 minutes (0.09 hours).

Survey name | Annual number of respondents | Minutes per response | Annual burden hours
Full Recreation Use Survey Only | 16,550 | 5 | 1,379
Abbreviated Bus/Bike Survey Only | 450 | 2 | 15
Full Recreation Use plus Follow-up Economic Survey * | 2,000 | 11 | 367
Abbreviated Bus/Bike plus Follow-up Economic * | 50 | 8 | 7
Total | 19,050 |  | 1,768
* Individuals who participate in the Full Recreation Use Survey or the Bus or Bike survey have the option to receive a follow-up economic survey. Approximately 11% of the respondents are expected to complete both surveys.

Frequency: On occasion.

Respondents to this generic collection are public visitors to US Army Corps of Engineers Recreation Areas. Visitors exiting the recreation area by vehicle are stopped as potential respondents. Participation is voluntary. Respondents are asked questions in the following categories; characteristics of visit, quantity of people in the vehicle, description of overnight stay, activity participation, demographics, willingness to participate in follow-up Web survey. The follow-up Web survey asks questions in the following categories; total party size, trip frequency, activity equipment characteristics.

Dated: May 19, 2015.
Aaron Siegel,
Alternate OSD Federal Register Liaison Officer, Department of Defense.

[FR Doc. 2015-12536 Filed 5-22-15; 8:45 am]

BILLING CODE 5001-06-P